DEPARTMENT OF TRANSPORTATION

Federal Aviation Administration

14 CFR Part 71

[Docket No. FAA-2017-1061; Airspace Docket No. 17-AEA-20]

RIN 2120-AA66

Amendment of Class D Airspace and Class E Airspace, and Removal of Class E Airspace; Binghamton, NY

AGENCY: Federal Aviation Administration (FAA), DOT.

ACTION: Final rule.

SUMMARY: This action amends Class D airspace, Class E surface airspace, and Class E airspace extending upward from 700 feet above the surface; and removes Class E airspace designated as an extension to a Class D surface area; at Greater Binghamton Airport/Edwin A. Link Field (formerly Binghamton Regional Airport/Edwin A. Link Field), Binghamton, NY. This action accommodates airspace reconfiguration due to the decommissioning of the Binghamton VHF omni-directional radio range tactical air navigation aid (VORTAC), and cancellation of the VOR approaches. Controlled airspace is necessary for the safety and management of instrument flight rules (IFR) operations at the airport. This action also updates the geographic coordinates of the airport, and corrects the airport's name. Additionally, this action replaces the outdated term “Airport/Facility Directory” with the term “Chart Supplement” in Class D and E surface airspace descriptions.

DATES: Effective 0901 UTC, September 13, 2018. The Director of the Federal Register approves this incorporation by reference action under Title 1 Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: John Fornito, Operations Support Group, Eastern Service Center, Federal Aviation Administration, 1701 Columbia Ave., College Park, GA 30337; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D and Class E airspace at Greater Binghamton Airport/Edwin A. Link Field, Binghamton, NY, to support IFR operations at the airport.

History

The FAA published a notice of proposed rulemaking in the Federal Register (83 FR 5750, February 9, 2018) for Docket No. FAA-2017-1061 to amend Class D airspace and Class E surface airspace, and Class E airspace extending upward from 700 feet or more above the surface at Greater Binghamton Airport/Edwin A. Link Field, Binghamton, NY (formerly Binghamton Regional Airport/Edwin A. Link Field).

Interested parties were invited to participate in this rulemaking effort by submitting written comments on the proposal to the FAA. One comment was received requesting a graphic on the airspace proposal. The FAA has since posted a graphic to the docket.

Class D and E airspace designations are published in paragraph 5000, 6002, 6004,and 6005, respectively, of FAA Order 7400.11B dated August 3, 2017, and effective September 15, 2017, which is incorporated by reference in 14 CFR part 71.1. The Class D and E airspace designations listed in this document will be published subsequently in the Order.

Availability and Summary of Documents for Incorporation by Reference

This document proposes to amend FAA Order 7400.11B, Airspace Designations and Reporting Points, dated August 3, 2017, and effective September 15, 2016. FAA Order 7400.11B is publicly available as listed in the ADDRESSES section of this document. FAA Order 7400.11B lists Class A, B, C, D, and E airspace areas, air traffic service routes, and reporting points.

The Rule

This amendment to Title 14 Code of Federal Regulations (14 CFR) part 71 amends Class D airspace, Class E surface airspace, and Class E airspace extending upward from 700 feet or more above the surface at Greater Binghamton Airport/Edwin A. Link Field, Binghamton, NY (formerly Binghamton Regional Airport/Edwin A. Link Field), due to the decommissioning of the Binghamton VORTAC, and cancellation of the VOR approaches. These changes enhance the safety and management of IFR operations at the airport.

The Class D airspace area is amended to within a 4.4-mile radius (from a 4.3-mile radius) of Greater Binghamton Airport/Edwin A. Link Field.

The Class E surface area airspace is amended to within a 4.4-mile radius (increased from a 4.3-mile radius) of Greater Binghamton Airport/Edwin A. Link Field. The Binghamton VORTAC is removed as it is being decommissioned. The SMITE LOM, and ILS Runway 34 Localizer navigation aids are no longer needed in the airspace redesign.

The Class E airspace designated as an extension to a Class D surface area is removed as this airspace was only necessary for the cancelled approaches.

Class E airspace extending upward from 700 feet above the surface is amended to within a 7-mile radius (initially from a boundary line formed by the geographic coordinates) of the airport. The exclusionary language contained in the legal description is removed to comply with FAA Order 7400.2L, Procedures for Handling Airspace Matters. Also, an editorial change is made by adding the airport's geographic coordinates to the airspace designation.

The geographic coordinates of the airport also are adjusted in the classes of airspace listed above to coincide with the FAA's aeronautical database, and the airport name is updated to Greater Binghamton Airport/Edwin A. Link Field, formerly Binghamton Regional Airport/Edwin A. Link Field.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of Federal Aviation Administration Order 7400.11B, Airspace Designations and Reporting Points, dated August 3, 2017, effective September 15, 2017, is amended as follows:

Paragraph 5000 Class D Airspace.

* * * * *

AEA NY D Binghamton, NY [Amended]

Greater Binghamton Airport/Edwin A. Link Field, NY

(Lat. 42°12′30″ N, long. 75°58′47″ W)

That airspace extending upward from the surface to and including 4,100 feet MSL within a 4.4-mile radius of Greater Binghamton Airport/Edwin A. Link Field. This Class D airspace area is effective during the specific days and times established in advance by a Notice to Airmen. The effective days and times will thereafter be continuously published in the Chart Supplement.

Paragraph 6002 Class E Surface Area Airspace.

* * * * *

AEA NY E2 Binghamton, NY [Amended]

Greater Binghamton Airport/Edwin A. Link Field, NY

(Lat. 42°12′30″ N, long. 75°58′47″ W)

That airspace extending upward from the surface within a 4.4-mile radius of Greater Binghamton Airport/Edwin A. Link Field. This Class E airspace area is effective during the specific days and times established in advance by a Notice to Airmen. The effective days and times will thereafter be continuously published in the Chart Supplement.

Paragraph 6004 Class E Airspace Designated as an Extension to a Class D Surface Area.

* * * * *

AEA NY E4 Binghamton, NY [Removed]

Paragraph 6005 Class E Airspace Areas Extending Upward From 700 Feet or More Above the Surface of the Earth.

* * * * *

AEA NY E5 Binghamton, NY [Amended]

Greater Binghamton Airport/Edwin A. Link Field, NY

(Lat. 42°12′30″ N, long. 75°58′47″ W)

That airspace extending upward from 700 feet above the surface within a 7-mile radius of Greater Binghamton Airport/Edwin A. Link Field.

Issued in College Park, Georgia, on June 6, 2018.
Ryan W. Almasy,
Manager, Operations Support Group, Eastern Service Center, Air Traffic Organization.

[FR Doc. 2018-13050 Filed 6-18-18; 8:45 am]

BILLING CODE 4910-13-P